NATIONAL SCIENCE FOUNDATION

Proposal Review Panel for Advanced Computational Infrastructure & Research (1185); Notice of Meeting

In accordance with the Federal Advisory Committee Act (Pub. L. 92-463, as amended), the National Science Foundation announces the following meeting:

Name: Proposal Review Panel for Advanced Computational Infrastructure & Research (#1185).

Date & Time:

September 18, 2003; 8 a.m.-5 p.m.

September 19, 2003; 8 a.m.-5 p.m.

Place: National Science Foundation, 4201 Wilson Boulevard, Room 1150, Arlington, VA 22230.

Type of Meeting: Open.

Contact Person: Richard Hilderbrandt, Program Director, Division of Advanced Computational Infrastructure and Research, Suite 1122, National Science Foundation, 4201 Wilson Boulevard, Arlington, VA 22230, Tel: (703) 292-8963, e-mail: rhilderb@nsf.gov.

Purpose of Meeting: To perform a reverse site visit to review and provide advice and recommendations on plans and progress reports for NPACI, NCSA and PSC as part of the PACI activity.

Agenda: To review and evaluate annual reports and program plans.

Reason for Late Notice: Unforeseen administrative complications.

Dated: September 3, 2003.
Susanne Bolton,
Committee Management Officer.

[FR Doc. 03-22851 Filed 9-8-03; 8:45 am]

BILLING CODE 7555-01-M